DEPARTMENT OF HOMELAND SECURITY

Coast Guard

33 CFR Part 100 and 165

[Docket No. USCG-2011-1026]

RIN 1625-AA08; AA00

Safety Zones; Annually Recurring Marine Events in Coast Guard Southeastern New England Captain of the Port Zone

AGENCY: Coast Guard, DHS.

ACTION: Notice of proposed rulemaking.

SUMMARY: The Coast Guard proposes to amend special local regulations and to establish permanent safety zones in Coast Guard Southeastern New England Captain of the Port (COTP) Zone for annually recurring marine events. When these safety zones are activated, and subject to enforcement, this rule may restrict vessels from portions of water areas during annual events listed in the TABLE below that may pose a hazard to public safety. The revised safety zones would expedite public notification of events, remove extraneous and discontinued marine events, add new annually recurring marine events, and ensure the protection of the maritime public and event participants from the hazards associated with marine regattas, firework displays, swim competitions, and other marine events.

DATES: Comments and related material must be received by the Coast Guard on or before April 3, 2012. Requests for public meetings must be received by the Coast Guard on or before February 24, 2012.

ADDRESSES: You may submit comments identified by docket number USCG-2011-1026 using any one of the following methods:

(1) Federal e-Rulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions on this proposed rule, call or email Mr. Edward G. LeBlanc, Waterways Management Division at Coast Guard Sector Southeastern New England, telephone (401) 435-2351, email Edward.G.LeBlanc@uscg.mil. If you have questions on viewing or submitting material to the docket, call Renee V. Wright, Program Manager, Docket Operations, telephone (202) 366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2011-1026), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, click on the “submit a comment” box, which will then become highlighted in blue. In the “Document Type” drop down menu select “Proposed Rule” and insert “USCG-2011-1026” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-1026” and click “Search.” Click the “Open Docket Folder” in the “Actions” column. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before February 24, 2012, using one of the four methods specified under ADDRESSES. Please explain why you believe a public meeting would be beneficial. If we determine that one would aid this rulemaking, we will hold one at a time and place announced by a later notice in the Federal Register.

Basis and Purpose

The legal basis for the proposed rule is 33 U.S.C. 1225, 1226, 1231, 1233; 46 U.S.C. Chapter 701, 3306, 3703; 50 U.S.C. 191, 195; Public Law 107-295, 116 Stat. 2064; and Department of Homeland Security Delegation No. 0170.1, which collectively authorize the Coast Guard to define safety zones.

Many marine events are held annually on a recurring basis on or over the navigable waters within the Coast Guard Southeastern New England COTP Zone. These events include sailing regattas, powerboat races, rowboat races, parades, swim events, air shows, and fireworks displays. In the past, the Coast Guard has established special local regulations, regulated areas, and safety zones for these events on a case by case basis to ensure the protection of the maritime public and event participants from the hazards associated with these events. This proposed rule will consistently apprise the public in a timely manner through permanent publication in Title 33 of the Code of Federal Regulations. The Table in this proposed regulation lists each annual recurring event requiring a regulated area as administered by the Coast Guard.

By establishing permanent regulations for these events, the Coast Guard will eliminate the need to establish temporary rules for events that occur on an annual basis. Some of the events discussed below are duplicated in 33 CFR 100.112, 100.113, 100.114 and 100.116, which are citations that no longer meet the Coast Guard's intended purposes. While 33 CFR part 100 is designed for Regattas and Marine Parades, 33 CFR part 165 is for Regulated Navigation Areas and Limited Access Areas. The Coast Guard has identified a number of events in 33 CFR part 100 which would be more appropriately located in 33 CFR part 165. This rulemaking will amend local regulations for events already contained in 33 CFR part 100 both to update event information as well as to move fireworks displays to Section 165, a citation that better meets the Coast Guard's intended purpose of ensuring safety during these events.

This rulemaking will eliminate seven (7) extraneous and outdated marine events which have either been discontinued, or no longer require a special local regulation due to the absence of a viable marine hazard. Elimination of these seven events will prevent confusion amongst the public who may be led to believe that these events are still marine events recurring on an annual basis. Their removal will also promote regulatory efficiency by eliminating unnecessary local regulations which are no longer enforced.

In addition, the Coast Guard has promulgated safety zones or special local regulations in the past for 17 of the 24 events listed in the TABLE, and has not received public comments or concerns regarding the impact to waterway traffic from these annually recurring events. The seven (7) new annually recurring events now require local regulations in order to ensure the safety of both participants and spectators, as the marine events may pose unique hazards to waterways navigation and safety.

The Coast Guard does not anticipate any negative public comments regarding these seven new annually recurring marine events as these events have been held on an annual basis for several years now, in which local maritime enforcement assets have established “safety perimeters” around the events, similar to the proposed safety zones. The Coast Guard has promulgated safety zones or special local regulations for these areas in the past, and has not received public comments or concerns regarding the impact to waterway traffic from these annually recurring.

Discussion of Proposed Rule

The Coast Guard proposes to remove sections 33 CFR 100.112, 100.113, 100.116, to revise section 33 CFR 100.114, and to add section 33 CFR 165.173. The proposed changes will remove seven outdated marine events and establish 24 permanent regulated areas. The proposed rule will apply to each recurring marine event listed in the attached Table in the Coast Guard Southeastern New England COTP Zone. The Table provides the event name, type, and approximate safety zone dimensions as well as approximate dates, times, and locations of the events. The specific times, dates, regulated areas and enforcement period for each event will be provided through the Local Notice to Mariners, Broadcast Notice to Mariners or through a Notice of Enforcement published in the Federal Register.

Three event sponsors of fireworks displays have requested the creation of safety zones which may be enforced 365 days a year. The purpose of these 365 day safety zones is to permit sponsors the flexibility to hold similar fireworks displays at the same location on different days and for different events without the need of creating temporary final rules. These three 365 day Safety Zones can be found in section 1.0 in the Table below.

The particular size of the safety zones established for each event will be reevaluated on an annual basis in accordance with Navigational and Vessel Inspection Circular (NVIC) 07-02, Marine Safety at Firework Displays, the National Fire Protection Association Standard 1123, Code for Fireworks Displays (100-foot distance per inch of diameter of the fireworks mortars), and other pertinent regulations and publications.

This proposed regulation would prevent vessels from transiting areas specifically designated as safety zones during the periods of enforcement to ensure the protection of the maritime public and event participants from the hazards associated with listed annual recurring events. Only event sponsors, designated participants, and official patrol vessels will be allowed to enter safety zones and special local regulation areas. Spectators and other vessels not registered as event participants may not enter the regulated areas without the permission of the COTP or the COTP's designated representative.

Regulatory Analyses

We developed this proposed rule after considering numerous statutes and executive orders related to rulemaking. Below we summarize our analyses based on 13 of these statutes or executive orders.

Executive Order 12866 and Executive Order 13563

This proposed rule is not a significant regulatory action under section 3(f) of Executive Order 12866, Regulatory Planning and Review, as supplemented by Executive Order 13563, and does not require an assessment of potential costs and benefits under section 6(a)(3) of that Order. The Office of Management and Budget has not reviewed it under that Order.

We expect the economic impact of this proposed rule to be so minimal that a full Regulatory Evaluation is unnecessary. Although this regulation may have some impact on the public, the potential impact will be minimized for the following reasons: Vessels will only be restricted from safety zones for a short duration of time; vessels may transit in all portions of the affected waterway except for those areas covered by the proposed regulated areas, and vessels may enter or pass through the affected waterway with the permission of the COTP or the COTP's representative. The Coast Guard has promulgated safety zones or special local regulations in accordance with 33 CFR parts 100 and 165 for 17 of the proposed 24 event areas in the past and has not received notice of any negative impact caused by any of the safety zones or special local regulations. By establishing a permanent regulation containing all of these events, the Coast Guard will eliminate the need to establish individual temporary rules for each separate event that occurs on an annual basis, thereby limiting the costs of cumulative regulations.

Notifications will be made to the local maritime community through the Local Notice to Mariners well in advance of the events. If the event does not have a date listed, then the exact dates and times of the enforcement period will be announced through a Notice of Enforcement in the Federal Register. No new or additional restrictions will be imposed on vessel traffic.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: Owners or operators of vessels intending to transit, fish, or anchor in the areas where the listed annual recurring events are being held.

The proposed rule would not have a significant economic impact on a substantial number of small entities for the following reasons: Vessels will only be restricted from safety zones for a short duration of time; vessels may transit in portions of the affected waterway except for those areas covered by the proposed regulated areas; and vessels may enter or pass through the affected waterway with the permission of the COTP or the COTP's representative. The Coast Guard has promulgated safety zones or special local regulations in accordance with 33 CFR parts 100 and 165 for all event areas in the past and has not received notice of any negative impact caused by any of the safety zones or special local regulations; and notifications will be made to the local maritime community through the Local Notice to Mariners well in advance of the events. If the event does not have a date listed, then exact dates and times of the enforcement period will be announced through a Notice of Enforcement in the Federal Register. No new or additional restrictions would be imposed on vessel traffic.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT. The Coast Guard will not retaliate against small entities that question or complain about this proposed rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action appears to be one of a category of actions which do not individually or cumulatively have a significant effect on the human environment.

A preliminary environmental analysis checklist supporting this determination is available in the docket where indicated under ADDRESSES. This proposed rule involves the establishment of safety zones for fireworks displays, swim events and other marine events. It appears that this action will qualify for Coast Guard Categorical Exclusions (34) (g) and (h), as described in figure 2-1 of the Commandant Instruction.

We seek any comments or information that may lead to the discovery of a significant environmental impact from this proposed rule.

List of Subjects

33 CFR Part 100

Marine safety, Navigation (water), Reporting and recordkeeping requirements, Waterways.

33 CFR Part 165

Harbors, Marine safety, Navigation (water), Reporting and recordkeeping requirements, Security measures, Waterways.

For the reasons discussed in the preamble, the Coast Guard proposes to amend 33 CFR parts 100 and 165 as follows:

PART 100—SAFETY OF LIFE ON NAVIGABLE WATERS

1. The authority citation for Part 100 continues to read as follows:

Authority: 33 U.S.C. 1233.

§§ 100.112, 100.113, 100.116 [Removed]

2. Remove §§ 100.112, 100.113, and 100.116

3. Remove the following entries in the “Fireworks Display Table” in § 100.114 (along with the associated “Massachusetts ” and “Rhode Island” titles) as follows: 7.16, 7.18, 7.19, 7.20, 7.21, 7.22, 7.23, 7.24, 7.25, 7.26, 7.27, 7.28, 7.38, 8.2, 8.5, 9.4, 10.1, 12.2, 12.3, and 12.5.

PART 165—REGULATED NAVIGATION AREAS AND LIMITED ACCESS AREAS

4. The authority citation for Part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

5. Add a new § 165.173 to read as follows:

§ 165.173 Safety Zones for Annually Recurring Marine Events held in Coast Guard Sector Southeastern New England Captain of the Port Zone.

(a) Regulations.

The general regulations contained in 33 CFR 165.23 as well as the following regulations apply to the fireworks displays and swim events listed in the Table to § 165.173. These regulations may be enforced for the duration of each event.

Notifications will be made to the local maritime community through the Local Notice to Mariners well in advance of the events. If the event does not have a date listed, then exact dates and times of the enforcement period will be announced through a Notice of Enforcement in the Federal Register.

Note to introductory paragraph of § 165.173: Although listed in the Code of Federal Regulations, sponsors of events listed in the Table shall submit an application each year in accordance with 33 CFR 100.15.

(b) Definitions. The following definitions apply to this section:

(1) Designated Representative. A “designated representative” is any Coast Guard commissioned, warrant or petty officer of the U.S. Coast Guard who has been designated by the Captain of the Port, Sector Southeastern New England (COTP), to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(c) The Coast Guard may patrol each event area under the direction of a designated Coast Guard Patrol Commander. The Patrol Commander may be contacted on Channel 16 VHF-FM (156.8 MHz) by the call sign “PATCOM.” The “official patrol vessels” may consist of any Coast Guard, Coast Guard Auxiliary, state, or local law enforcement vessels assigned or approved by the Captain of the Port, Sector Southeastern New England.

(d) Vessels may not transit the regulated areas without Patrol Commander approval. Vessels permitted to transit must operate at a no wake speed, in a manner which will not endanger participants or other crafts in the event.

(e) Spectators or other vessels shall not anchor, block, loiter, or impede the movement of event participants or official patrol vessels in the regulated areas during the effective dates and times, or dates and times as modified through a Notice of Enforcement published in the Federal Register, unless authorized by an official patrol vessel.

(f) The Patrol Commander may control the movement of all vessels in the regulated area. When hailed or signaled by an official patrol vessel, a vessel shall come to an immediate stop and comply with the lawful directions issued. Failure to comply with a lawful direction may result in expulsion from the area, citation for failure to comply, or both.

(g) The Patrol Commander may delay or terminate any event in this subpart at any time to ensure safety. Such action may be justified as a result of weather, traffic density, spectator operation or participant behavior.

(h) For all fireworks displays listed below, the regulated area is that area of navigable waters within the specified radius of the launch platform or launch site for each fireworks display, unless modified later in a Notice of Enforcement published in the Federal Register.

Table to § 165.173
1.0 | 365 DAY JANUARY-DECEMBER
1.1 Provincetown Fireworks | • Event Type: Fireworks Display.
| • Date: Enforced on any day during the duration of the event as specified by a Notice of Enforcement published in the Federal Register.
| • Time: Approximately 5 p.m. to 11:59 p.m.
| • Location: From a barge in the vicinity of the Provincetown Harbor, Provincetown, MA.
| • Position: Within 500 yards of 41°28′44″ N, 070°10′83″ W (NAD 83).
| • Safety Zone Dimension: Approximately 300 yard radius circle around the fireworks barge.
1.2 Providence Fireworks | • Event Type: Fireworks Display.
| • Date: Enforced on any day during the duration of the event as specified by a Notice of Enforcement published in the Federal Register.
| • Time: Approximately 5 p.m. to 11:59 p.m.
| • Location: From a barge in the vicinity of the Hurricane Barrier in the Providence River, Providence, RI.
| • Position: Within 500 yards of 41°48′50″ N, 071°23′43″ W (NAD 83).
| • Safety Zone Dimension: Approximately 300 yard radius circle around the fireworks barge.
1.3 Fall River Fireworks | • Event Type: Fireworks Display.
| • Date: Enforced on any day during the duration of the event as specified by a Notice of Enforcement published in the Federal Register.
| • Time: Approximately 5 p.m. to 11:59 p.m.
| • Location: From a barge in the vicinity of Battleship Cove, Fall River, MA.
| • Position: Within 500 yards of 41°42′37″ N, 071°09′53″ W (NAD 83).
| • Safety Zone Dimension: Approximately 200 yard radius circle around the fireworks barge.
6.0 | JUNE
6.1 Oak Bluffs Summer Solstice | • Event Type: Fireworks Display.
| • Date: One night on the 3rd or 4th weekend of June.
| • Time: Approximately 8 p.m. to 11:59 p.m.
| • Location: From a barge in the vicinity of Town Beach, Oak Bluffs, MA.
| • Position: Within 500 yards of 41°27′19″ N, 070°33′08″ W (NAD 83).
| • Safety Zone Dimension: Approximately 300 yard radius circle around the fireworks barge.
6.2 RI National Guard Air Show | • Event Type: Air Show.
| • Date: One weekend (Friday, Saturday, and Sunday) in June or July.
| • Time: Approximately 9 a.m. to 7 p.m.
| • Location: (1) All waters over the West Passage of Narragansett Bay, in the vicinity of the Quonset State Airport, North Kingston, RI which are within a 4000-yard radius arc extending from position 41°35′44″ N, 071°24′14″ W (NAD 83); and (2) All waters over the West Passage of Narragansett Bay, in the vicinity of Narragansett Pier, Narragansett, RI, which are within a 2000-yard radius arc extending from position 41°26′17″ N, 071°27′02″ W (NAD 83) (Friday only).
| • Safety Zone Dimension: Approximately 1000 yards long by 1000 yards wide.
7.0 | JULY
7.1 Marion 4th of July Fireworks | • Event Type: Fireworks Display.
| • Date: One night between July 1st and July 10th, as announced in the Local Notice to Mariners.
| • Time: Approximately 8 p.m. to 11:59 p.m.
| • Location: From a barge in the vicinity of Outer Sipican Harbor, Marion, MA.
| • Position: Within 500 yards of 41°42′17″ N, 070°45′08″ W (NAD 83).
| • Safety Zone Dimension: Approximately 300 yard radius circle around the fireworks barge.
7.2 Oyster Harbors July 4th Festival | • Event Type: Fireworks Display.
| • Date: One night between July 1st and July 10th, as announced in the Local Notice to Mariners.
| • Time: Approximately 8 p.m. to 11:59 p.m.
| • Location: From a barge in the vicinity of Tim's Cove, North Bay, Osterville, MA.
| • Position: Within 500 yards of 41°37′29″ N, 070°25′12″ W (NAD 83).
| • Safety Zone Dimension: Approximately 200 yard radius circle around the fireworks barge.
7.3 North Kingstown Fireworks Display | • Event Type: Fireworks Display.
| • Date: One night between July 1st and July 10th, as announced in the Local Notice to Mariners.
| • Time: Approximately 8 p.m. to 11:59 p.m.
| • Location: From a barge in the vicinity of Town Beach, North Kingston, RI.
| • Position: Within 500 yards of 41°33′59″ N, 071°26′23″ W (NAD 83).
| • Safety Zone Dimension: Approximately 200 yard radius circle around the fireworks barge.
7.4 Falmouth Fireworks | • Event Type: Fireworks Display.
| • Date: One night between July 1st and July 10th, as announced in the Local Notice to Mariners.
| • Time: Approximately 8 p.m. to 11:59 p.m.
| • Location: From a barge in the vicinity of Falmouth Beach, Falmouth, MA.
| • Position: Within 500 yards of 41°32′27″ N, 070°35′26″ W (NAD 83).
| • Safety Zone Dimension: Approximately 300 yard radius circle around the fireworks barge.
7.5 Town of Nantucket Fireworks | • Event Type: Fireworks Display.
| • Date: One night between July 1st and July 10th, as announced in the Local Notice to Mariners.
| • Time: Approximately 8 p.m. to 11:59 p.m.
| • Location: From a barge in the vicinity of Jetties Beach, Nantucket Sound, MA.
| • Position: Within 500 yards of 41°19′00″ N, 070°06′30″ W (NAD 83).
| • Safety Zone Dimension: Approximately 200 yard radius circle around the fireworks barge.
7.6 City of Newport 4th of July Fireworks | • Event Type: Fireworks Display.
| • Date: One night between July 1st and July 10th, as announced in the Local Notice to Mariners.
| • Time: Approximately 8 p.m. to 11:59 p.m.
| • Location: From the shore in the vicinity of Fort Adams, Newport, RI.
| • Position: Within 500 yards of 41°28′49″ N, 071°20′12″ W (NAD 83).
| • Safety Zone Dimension: Approximately 350 yard radius circle around the launch site.
7.7 Town of Barnstable/Hyannis July 4th Fireworks | • Event Type: Fireworks Display.
| • Date: One night between July 1st and July 10th, as announced in the Local Notice to Mariners.
| • Time: Approximately 8 p.m. to 11:59 p.m.
| • Location: From a barge in the vicinity of Lewis Bay, Hyannis, MA.
| • Position: Within 500 yards of 41°38′20″ N, 070°15′08″ W (NAD 83).
| • Safety Zone Dimension: Approximately 350 yard radius circle around the fireworks barge.
7.8 Edgartown 4th of July Fireworks Celebration | • Event Type: Fireworks Display.
| • Date: One night between July 1st and July 10th, as announced in the Local Notice to Mariners.
| • Time: Approximately 8 p.m. to 11:59 p.m.
| • Location: From a barge in the vicinity of Edgartown Outer Harbor, Edgartown, MA.
| • Approximate position: Within 500 yards of 41°22′39″ N, 070°30′14″ W (NAD 83).
| • Safety Zone Dimension: Approximately 300 yard radius circle around the fireworks barge.
7.9 City of New Bedford Fireworks Display | • Event Type: Fireworks Display.
| • Date: One night between July 1st and July 10th, as announced in the Local Notice to Mariners.
| • Time: Approximately 8 p.m. to 11:59 p.m.
| • Location: From a barge in the vicinity of New Bedford Harbor, New Bedford, MA.
| • Approximate position: Within 500 yards of 41°37′55″ N, 070°54′44″ W (NAD 83).
| • Safety Zone Dimension: Approximately 250 yard radius circle around the fireworks barge.
7.10 Onset Fireworks | • Event Type: Fireworks Display.
| • Date: One night between July 1st and July 10th, as announced in the Local Notice to Mariners.
| • Time: Approximately 8 p.m. to 11:59 p.m.
| • Location: On the shore, in the vicinity of Shellpoint Beach, Onset, MA.
| • Approximate position: Within 500 yards of 41°44′13″ N, 070°39′51″ W (NAD 83).
| • Safety Zone Dimension: Approximately 300 yard radius circle around the fireworks launch site.
7.11 Bristol 4th of July Fireworks | • Event Type: Fireworks Display.
| • Date: One night between July 1st and July 10th, as announced in the Local Notice to Mariners.
| • Time: Approximately 8 p.m. to 11:59 p.m.
| • Location: In the vicinity of Northern portion of the Bristol Harbor, Bristol, RI, on the section of Poppasquash Rd separating the harbor and Mill Pond.
| • Position: Within 500 yards of 41°40′53.4″ N, 071°17′00″ W (NAD 83).
| • Safety Zone Dimension: Approximately 300 yard radius circle around the fireworks launch site.
7.12 Swim Buzzards Bay | • Event Type: Swim Event.
| • Date: One Saturday or Sunday in July or August, as announced in the Local Notice to Mariners.
| • Time: Start times will vary from 6 a.m. to 11:59 a.m., and last approximately two hours until the last swimmer is ashore. Start time will be announced in advance in the Local Notice to Mariners.
| • Location: The regulated area includes all waters in the vicinity of the Outer New Bedford Harbor, within 500 yards along a centerline with an approximate start point of 41°36′35″ N, 070°54′18″ W (NAD 83) and an approximate end point of 41°37′26″ N, 070°53′48 ″W (NAD 83) at Davy's Locker Restaurant in New Bedford, MA, to Fort Phoenix Beach in Fairhaven, MA.
| • Safety Zone Dimension: 500 yards on either side of the centerline described above.
7.13 Save the Bay Swim | • Event Type: Swim Event.
| • Date: One Saturday or Sunday in July or August, as announced in the Local Notice to Mariners.
| • Time: Start time will vary from 6 a.m. to 11:59 a.m. and last for approximately four hours, until the last swimmer is ashore. Start time will be announced in advance in the Local Notice to Mariners.
| • Location: The regulated area includes all waters in the vicinity of the Newport/Pell Bridge, East Passage of Narragansett Bay, along a centerline with an approximate start point of 41°30′24″N, 071°19′49″ W (NAD 83) and an approximate end point of 41°30′39″ N, 071°21′50″ W (NAD 83), i.e., a line drawn from the Officers' Club, Coaster's Harbor Island, Naval Station Newport, to Potter Cove, Jamestown.
| • Safety Zone Dimension: 500 yards on either side of the centerline described above.
8.0 | AUGUST
8.1 Boston Pops Nantucket | • Event Type: Fireworks Display.
| • Date: One night in August as announced in the Local Notice to Mariners.
| • Time: Approximately 8 p.m. to 11:59 p.m.
| • Location: On the shore, in the vicinity of Jetties Beach, Nantucket, MA.
| • Position: Within 500 yards of 41°17′43″ N, 070°06′10″ W (NAD 83).
| • Safety Zone Dimension: Approximately 400 yard radius circle around the fireworks barge.
8.2 Oak Bluffs Fireworks | • Event Type: Fireworks Display.
| • Date: One night in August.
| • Time: Approximately 8 p.m. to 11:59 p.m.
| • Location: From a barge in the vicinity of Oak Bluffs Harbor, Oak Bluffs, MA.
| • Position: Within 500 yards of 41°27′27″ N, 070°33′17″ W (NAD 83).
| • Safety Zone Dimension: Approximately 350 yard radius circle around the fireworks barge.
8.3 Newport Salute to Summer Fireworks | • Event Type: Fireworks Display.
| • Date: One night during the last two weekends in August or 1st weekend in September.
| • Time: Approximately 8 p.m. to 11:59 p.m.
| • Location: From a barge in the vicinity of Naval Station Newport, Newport, RI.
| • Position: Within 500 yards of 41°30′15″ N, 071°19′50″ W (NAD 83).
| • Safety Zone Dimension: Approximately 400 yard radius circle around the fireworks barge.
9.0 | SEPTEMBER
9.1 Provincetown Harbor Swim for Life | • Event Type: Swim Event.
| • Date: On a day in September as announced in the Local Notice to Mariners.
| • Time: Times will vary from 10 a.m. until the last swimmer is ashore, no later than 2 p.m.
| • Location: The regulated area includes all waters in the vicinity of the Provincetown Harbor along a centerline between the start point, the Long Point Lighthouse. approximate position 42°01′59″ N, 070°10′07″ W (NAD 83), and the end point, the Boatslip Resort, Provincetown, MA., approximate position 42°02′48″ N, 070°11′24″ W (NAD 83).
| • Safety Zone Dimension: 250 yards on either side of the centerline described above.
9.2 Spirit of Somerset Celebration | • Event Type: Fireworks Display.
| • Date: One night in September, as announced in the Local Notice to Mariners.
| • Time: Approximately 8 p.m. to 11:59 p.m.
| • Location: On the shore, in the vicinity of Mallard Point, Somerset, MA.
| • Position: Within 500 yards of 41°46′18″ N, 071°07′14″ W (NAD 83).
| • Safety Zone Dimension: Approximately 200 yard radius circle around the fireworks launch site.
10.0 | OCTOBER
10.1 Yarmouth Seaside Festival Fireworks | • Event Type: Fireworks Display.
| • Date: One night in October, as announced in the Local Notice to Mariners.
| • Time: Approximately 7 p.m. to 11:59 p.m.
| • Location: On the shore, in the vicinity of Seagull Beach, West Yarmouth, MA.
| • Position: Within 500 yards of 41°38′06″ N, 070°13′13″ W (NAD 83).
| • Safety Zone Dimension: Approximately 300 yard radius circle around the fireworks launch site.

Dated: January 3, 2012.
V.B. Gifford, Jr.,
Captain, U.S. Coast Guard, Captain of the Port Southeastern New England.

[FR Doc. 2012-2391 Filed 2-2-12; 8:45 am]

BILLING CODE 9110-04-P